DEPARTMENT OF TRANSPORTATION

Federal Aviation Administration

14 CFR Part 39

[Docket No. FAA-2007-0083; Directorate Identifier 2006-NM-266-AD]

RIN 2120-AA64

Airworthiness Directives; Empresa Brasileira de Aeronautica S.A. (EMBRAER) Model EMB-135BJ, -135ER, -135KE, -135KL, -135LR, -145, -145ER, -145MR, -145LR, -145XR, -145MP, and -145EP Airplanes

AGENCY: Federal Aviation Administration (FAA), DOT.

ACTION: Supplemental notice of proposed rulemaking (NPRM); reopening of comment period.

SUMMARY: We are revising an earlier supplemental NPRM for the products listed above. This action revises the earlier supplemental NPRM by expanding the scope. This proposed AD results from mandatory continuing airworthiness information (MCAI) originated by an aviation authority of another country to identify and correct an unsafe condition on an aviation product. The MCAI describes the unsafe condition as: It has been found the occurrence of engine anti-ice system valve failure, where the valve spring seat has broken and obstructed the anti-ice system venturi tube. Therefore, should the aircraft encounter icing conditions, ice may accrete in the engine inlet lip and be ingested through the air inlet, resulting in possible engine damage and flame-out. The proposed AD would require actions that are intended to address the unsafe condition described in the MCAI.

DATES: We must receive comments on this proposed AD by October 15, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone: +55 12 3927-5852 or +55 12 3309-0732; fax: +55 12 3927-7546; e-mail: distrib@embraer.com.br; Internet: http://www.flyembraer.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527)) is in the ADDRESSES section. Comments will be available in the AD docket shortly after receipt.

FOR FURTHER INFORMATION CONTACT: Sanjay Ralhan, Aerospace Engineer, International Branch, ANM-116, Transport Airplane Directorate, FAA, 1601 Lind Avenue, SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2007-0083; Directorate Identifier 2006-NM-266-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier supplemental NPRM for the specified products, which was published in the Federal Register on April 9, 2009 (74 FR 16154). That earlier supplemental NPRM proposed to require actions intended to address the unsafe condition for the products listed above.

Since that supplemental NPRM was issued, we have determined that the compliance times specified in that earlier supplemental NPRM must be reduced, for the reasons provided in the comments below.

Comments

We have considered the following comments received on the earlier supplemental NPRM.

Request To Reduce Compliance Times

Embraer requests that we reduce the compliance times specified in paragraphs (f)(5), (f)(7), and (f)(8) of the earlier supplemental NPRM.

Embraer recommends that the “1,500 flight hours or 9 months” compliance time specified in paragraph (f)(5) of the earlier supplemental NPRM be reduced to “500 flight hours or 6 months.” Embraer states that there were no reports of debris found in the engine anti-ice system during removal of part number (P/N) C146009-4 when the Brazilian AD 2006-09-03 was issued (October 30, 2006). However, Embraer states that now, as described in Embraer Service Newsletter (SNL) 145-30-0022, dated December 23, 2008, it has received six reports of debris found in the engine anti-ice system during removal of P/N C146009-4.

Embraer also recommends that the compliance time of “12 months after the effective date of this AD” specified in paragraph (f)(7) of the earlier supplemental NPRM and “30 months after the effective date of this AD” specified in paragraph (f)(8) of the earlier supplemental NPRM be reduced because the corresponding Brazilian AD 2006-09-03 was issued October 30, 2006, and the compliance time since the effective date of Brazilian AD 2006-09-03 has long since expired. Embraer states that in order to avoid the unsafe condition remaining for a period of time excessively higher than that foreseen in the Brazilian AD, the compliance times in paragraphs (f)(7) and (f)(8) of the earlier supplemental NPRM should be reduced.

We agree with the request to reduce the compliance times in paragraphs (f)(5), (f)(7), and (f)(8) of this second supplemental NPRM. We contacted Embraer for clarification on the reports it received. Embraer stated that it received in-service data showing that the additional cases of debris were found in the engine anti-ice system (EAIS) tubes of airplanes where engine anti-ice valve (EAIV) P/N C146009-2 or C146009-3 was removed and replaced with P/N C146009-4 in accordance with the illustrated parts catalog (IPC), and special detailed inspections (SDIs) (borescopic inspections) of the EAIS tubes to detect and clear debris were not performed.

Additional in-service data received by Embraer since the time the Brazilian AD was issued show that 86% of the U.S. fleet has installed the EAIV P/N C146009-4, replacing either P/N C146009-2 or P/N C146009-3; therefore, these airplanes with valves installed per the IPC and without performing SDIs may be exposed to risk of failure of the EAIS. Additionally, in case of partial blockage of the EAIS tubes, the system logic does not check or warn the flight crew regarding insufficient thermal energy (unobstructed hot air flow) being sent to the engine lip under icing conditions.

Therefore, based on this new information, we have reduced the compliance times in paragraph (f)(5) of this second supplemental NPRM from “1,500 flight hours or 9 months” to “500 flight hours or 6 months,” the compliance times in paragraph (f)(7) of this second supplemental NPRM from “2,500 flight hours or 12 months” to “1,000 flight hours or 10 months,” and the compliance times in paragraph (f)(8) of this second supplemental NPRM from “6,000 flight hours or 30 months” to “1,000 flight hours or 10 months.”

In developing the new compliance times for this second supplemental NPRM, we considered not only the safety implications of the identified unsafe condition, but the average utilization rate of the affected fleet, the practical aspects of doing the actions during regular maintenance periods, the availability of required parts, and the time necessary for the rulemaking process.

Request To Allow Alternate Part Number

Aerospace Sealants requests that we add parts manufacturer approval (PMA) part number (P/N) 9-C146009-4 to the supplemental NPRM as an alternative to Embraer P/N C146009-4. The commenter adds that PMA approval PQ3886CE, dated January 3, 2008, is for Aerospace Sealants P/N 9-C146009-4. The commenter notes that the Aerospace Sealants part is the only FAA-approved alternative product to P/N C146009-4.

We disagree with adding the PMA part number to this AD. Whether an alternative part is “equivalent” in adequately resolving the unsafe condition can only be determined on a case-by-case basis based on a complete understanding of the unsafe condition. The commenter did not provide justification that the identified unsafe condition has been mitigated, and that an acceptable level of safety is maintained with the PMA part.

We have determined that an unsafe condition exists and that installation of Embraer P/N C146009-4 specified in paragraph (f) of this AD must be accomplished to ensure continued safety. As provided by paragraph (g)(1) of this AD, any person may request an AMOC if data are submitted to demonstrate that using P/N 9-C146009-4 would provide an acceptable level of safety. This is necessary so that we can make a specific determination that an alternative part is or is not susceptible to the same unsafe condition. Therefore, no change has been made to the second supplemental NPRM in this regard.

Request for Clarification of Paragraph (f) of the Supplemental NPRM

Embraer requests that we clarify paragraph (f) of the earlier supplemental NPRM by revising the wording at several locations.

For paragraphs (f)(1)(i), (f)(1)(ii), and (f)(1)(iii) of the earlier supplemental NPRM, Embraer requests that we revise the wording “If any [engine] anti-ice system valve with P/N * * * is found * * *” with the wording “For engine anti-ice system valves with P/N * * *, ” to avoid the possibility of an engine anti-ice system not being inspected due to the existence of a valve with a different part number on the opposite engine anti-ice system.

We agree for the reason provided by the commenter. We have revised paragraphs (f)(1)(i), (f)(1)(ii), and (f)(1)(iii) of this second supplemental NPRM accordingly.

For paragraph (f)(1)(ii)(A) of the earlier supplemental NPRM, Embraer requests that we replace the wording “remove the obstruction” with “remove all obstructions.”

We agree and have revised paragraph (f)(1)(ii)(A) of this second supplemental NPRM accordingly.

For paragraph (f)(3) of the earlier supplemental NPRM, Embraer requests that we remove the wording “and any damage or obstruction repaired.” Embraer states that the applicable service bulletins do not provide instructions for repairing the valves, and therefore the defective valves must be replaced. Embraer also states that eliminating obstructions is not applicable to the valves.

We agree for the reason provided by the commenter. We have revised paragraph (f)(3) of this second supplemental NPRM accordingly.

For paragraph (f)(4) of the earlier supplemental NPRM, Embraer requests that we replace the wording “any damage or obstruction repaired” with “all obstructions removed.”

We agree we should clarify the actions specified in paragraph (f)(4) of this second supplemental NPRM. The service information specified in this second supplemental NPRM refers to the airplane maintenance manuals (AMMs) for the inspection of the tubes, and the AMMs include procedures to remove obstructions. We have clarified paragraph (f)(4) of this second supplemental NPRM by replacing “and any damage or obstruction repaired” with “and all obstructions removed.”

For paragraph (f)(6) of the earlier supplemental NPRM, Embraer proposes that we replace “repair any damage or obstruction” with “remove any defective valve from service and remove all obstructions from the tubes.”

We agree we should clarify the actions specified in paragraph (f)(6) of this second supplemental NPRM. The service information specified in this AD specifies to replace the valves if damage is found. Therefore, we should have clarified that the “repair” is replacing the valves. We have clarified paragraph (f)(6) of this second supplemental NPRM by replacing “and any damage or obstruction repaired” with “and replace all damaged valves and remove all obstructions.”

We have also clarified paragraph (f)(2)(ii) of this second supplemental by replacing “or remove the obstruction” with “or re-install the tube.” The condition for the actions in paragraph (f)(2)(ii) of this second supplemental NPRM is “if the valve is not damaged, or the tube is not obstructed.” Therefore, there is no obstruction to remove and the tube may be re-installed.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier supplemental NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that the inspection specified in this proposed AD would affect about 697 products of U.S. registry. We also estimate that it would take about 2 work-hours per airplane to comply with the inspection requirements of this proposed AD. The average labor rate is $80 per work-hour. Based on these figures, we estimate the cost of the inspection specified in the proposed AD on U.S. operators to be $111,520, or $160 per airplane.

We also estimated that the replacement specified in this proposed AD would affect up to 306 parts. We estimate that it would take about 5 work-hours per part to comply with the replacement requirements of this proposed AD (some airplanes have no affected parts and other airplanes have either one or two affected parts). Required parts would cost $27,507 per part. Where the service information lists required parts costs that are covered under warranty, we have assumed that there will be no charge for these costs. As we do not control warranty coverage for affected parties, some parties may incur costs higher than estimated here. Based on these figures, we estimate the cost of the replacement specified in the proposed AD on U.S. operators to be $8,539,542, or $27,907 per part.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2007-0083; Directorate Identifier 2006-NM-266-AD.

Comments Due Date

(a) We must receive comments by October 15, 2009.

Affected ADs

(b) None.

Applicability

(c) This AD applies to EMBRAER Model EMB-135BJ, -135ER, -135KE, -135KL, -135LR, -145, -145ER, -145MR, -145LR, -145XR, -145MP, and -145EP airplanes, certificated in any category, except airplanes having serial numbers 14500921, 14500928, 14500932, 14500949, 14500958, 14500971, 14500973 and up, which will have in-factory modification incorporated.

Subject

(d) Air Transport Association of America Code 30: Ice and Rain Protection.

Reason

(e) The mandatory continuing airworthiness information (MCAI) states:

It has been found the occurrence of engine anti-ice system valve failure, where the valve spring seat has broken and obstructed the anti-ice system venturi tube. Aircraft dispatch with that failure may be allowed by the operator Minimum Equipment List (MEL), [if] the engine anti-ice system valve [is] locked in the OPEN position. However, there is no readily available means to make sure the anti-ice system tubing is free of debris, allowing unrestricted hot airflow to the piccolo tube on the engine inlet lip. Therefore, should the aircraft encounter icing conditions, ice may accrete in the engine inlet lip and be ingested through the air inlet, resulting in possible engine damage and flame-out.

The required actions include an inspection to determine the part number of the engine anti-icing system valves; repetitive inspections of certain engine anti-icing system valves and tubes to detect damage, and replacement of the valves if damage is found; and eventual replacement of certain anti-icing system valves.

Actions and Compliance

(f) Unless already done, do the following actions.

(1) PART I—Within 500 flight hours or 3 months after the effective date of this AD, whichever occurs first, carry out a general visual inspection of both LH (left-hand) and RH (right-hand) engine anti-ice system valves to determine their P/N (part number).

(i) For engine anti-ice system valves with P/N C146009-2: No further action is required by paragraph (f)(1) of this AD.

(ii) For engine anti-ice system valves with P/N C146009-3: Before further flight, remove the valve and carry out a detailed inspection regarding its integrity; and carry out a special detailed inspection for an obstruction in the corresponding engine anti-ice system tubes; according to the detailed instructions and procedures described in Embraer Service Bulletin 145-30-0049, dated June 28, 2006, or Revision 01, dated October 19, 2006; or Embraer Service Bulletin 145LEG-30-0016, dated June 28, 2006, or Revision 01, dated February 5, 2007; as applicable.

(A) If the valve is damaged or the tube is obstructed, before further flight: Replace the valve with a serviceable or new valve bearing P/N C146009-2, C146009-3, or C146009-4; or remove all obstructions; as applicable; in accordance with the Accomplishment Instructions of Embraer Service Bulletin 145-30-0049, dated June 28, 2006, or Revision 01, dated October 19, 2006; or Embraer Service Bulletin 145LEG-30-0016, dated June 28, 2006, or Revision 01, dated February 5, 2007; as applicable.

(B) If the valve is not damaged or the tube is not obstructed, re-install the valve or install a serviceable or new valve bearing P/N C146009-2, C146009-3, or C146009-4; or re-install the tube; in accordance with the Accomplishment Instructions of Embraer Service Bulletin 145-30-0049, dated June 28, 2006, or Revision 01, dated October 19, 2006; or Embraer Service Bulletin 145LEG-30-0016, dated June 28, 2006, or Revision 01, dated February 5, 2007; as applicable.

(iii) For engine anti-ice system valves with P/N C146009-4: No further action is required by paragraph (f)(1) of this AD. In this case, paragraphs (f)(2), (f)(3), (f)(4), (f)(7), and (f)(8) of this AD are not applicable. However, paragraphs (f)(5) and (f)(6) of this AD must be accomplished.

(2) PART II—Within 1,500 flight hours or 9 months after the effective date of this AD, whichever occurs first, and thereafter at intervals that do not exceed 1,000 flight hours or 6 months, whichever occurs first, carry out a detailed inspection for damage of both LH and RH engine anti-ice system valves bearing P/N C146009-2 or C146009-3; and a special detailed inspection for obstruction of the corresponding engine anti-ice system tubes; according to the detailed instructions and procedures described in Embraer Service Bulletin 145-30-0049, dated June 28, 2006, or Revision 01, dated October 19, 2006; or Embraer Service Bulletin 145LEG-30-0016, dated June 28, 2006, or Revision 01, dated February 5, 2007; as applicable; and accomplish paragraphs (f)(2)(i) and (f)(2)(ii) of this AD, as applicable.

(i) If the valve is damaged or the tube is obstructed, before further flight: Replace the valve with a serviceable or new valve bearing P/N C146009-2, C146009-3, or C146009-4; or remove all obstructions; as applicable; in accordance with the Accomplishment Instructions of Embraer Service Bulletin 145-30-0049, dated June 28, 2006, or Revision 01, dated October 19, 2006; or Embraer Service Bulletin 145LEG-30-0016, dated June 28, 2006, or Revision 01, dated February 5, 2007; as applicable.

(ii) If the valve is not damaged, or the tube is not obstructed, before further flight: Re-install the valve or install a serviceable or new valve bearing P/N C146009-2 C146009-3, or C146009-4; or re-install the tube; as applicable; in accordance with the Accomplishment Instructions of Embraer Service Bulletin 145-30-0049, dated June 28, 2006, or Revision 01, dated October 19, 2006; or Embraer Service Bulletin 145LEG-30-0016, dated June 28, 2006, or Revision 01, dated February 5, 2007; as applicable.

(3) PART III—Any engine anti-ice system valve with P/N C146009-2 or C146009-3 that will be installed as a replacement, as provided for in paragraphs (f)(1) and (f)(2) of this AD, must undergo a detailed inspection for its integrity before installation, according to the detailed instructions and procedures described in Embraer Service Bulletin 145-30-0049, dated June 28, 2006, or Revision 01, dated October 19, 2006; or Embraer Service Bulletin 145LEG-30-0016, dated June 28, 2006, or Revision 01, dated February 5, 2007; as applicable; and additionally adhere to paragraphs (f)(3)(i) and (f)(3)(ii) of this AD, as applicable.

(i) If the valve is damaged, replace it with a serviceable or new valve bearing P/N C146009-2, C146009-3, or C146009-4; in accordance with the Accomplishment Instructions of Embraer Service Bulletin 145-30-0049, dated June 28, 2006, or Revision 01, dated October 19, 2006; or Embraer Service Bulletin 145LEG-30-0016, dated June 28, 2006, or Revision 01, dated February 5, 2007; as applicable.

(ii) If the valve is not damaged, installation is permitted.

(4) PART IV—Any engine anti-ice system tubes that will be installed on the airplane as a replacement, as provided for in paragraphs (f)(1) and (f)(2) of this AD, must undergo a special detailed inspection before installation, and all obstructions removed, according to the detailed instructions and procedures described in Embraer Service Bulletin 145-30-0049, dated June 28, 2006, or Revision 01, dated October 19, 2006; or Embraer Service Bulletin 145LEG-30-0016, dated June 28, 2006, or Revision 01, dated February 5, 2007; as applicable.

(5) PART V—If any engine anti-ice system valve with P/N C146009-4 has been found during the inspection required by paragraph (f)(1) of this AD, do paragraphs (f)(5)(i) or (f)(5)(ii) of this AD, as applicable, within 500 flight hours or 6 months after the effective date of this AD, whichever occurs first.

(i) If the valve was installed according to the detailed instructions and procedures described in Embraer Service Bulletin 145-30-0044, Revision 01, dated June 26, 2006, Revision 02, dated September 25, 2006, Revision 03, dated December 12, 2006, or Revision 04, dated May 14, 2008; or Embraer Service Bulletin 145LEG-30-0018, Revision 02, dated December 12, 2006, or Revision 03, dated May 14, 2008; as applicable: No further action is required by this AD.

(ii) If the valve was installed according to detailed instructions and procedures other than those specified in paragraph (f)(5)(i) of this AD: Carry out a special detailed inspection in the corresponding engine anti-ice system tubes, and repair all damage and remove all obstructions; according to the detailed instructions and procedures described in Embraer Service Bulletin 145-30-0049, dated June 28, 2006, or Revision 01, dated October 19, 2006; or Embraer Service Bulletin 145LEG-30-0016, dated June 28, 2006, or Revision 01, dated February 5, 2007; as applicable. After doing the actions specified in paragraph (f)(5)(ii) of this AD, no further action is required by this AD.

(6) PART VI—Before aircraft dispatch with one or two engine anti-ice system valves inoperative (Master Minimum Equipment List (MMEL) 30-21-01), carry out a detailed inspection for damage of the affected engine anti-ice system valves; and a special detailed inspection for obstruction of the corresponding engine anti-ice system tubes; and replace all damaged valves and remove all obstructions before further flight. Do all actions according to the detailed instructions and procedures described in Embraer Service Bulletin 145-30-0049, dated June 28, 2006, or Revision 01, dated October 19, 2006; or Embraer Service Bulletin 145LEG-30-0016, dated June 28, 2006, or Revision 01, dated February 5, 2007; as applicable; by accomplishing paragraph (f)(2) of this AD, unless the condition specified in paragraph (f)(6)(i) or (f)(6)(ii) of this AD has been met:

(i) Valves with P/N C146009-4 have been previously installed according to the detailed instructions and procedures described in Embraer Service Bulletin 145-30-0044, dated October 31, 2005; Embraer Service Bulletin 145LEG-30-0018, dated June 26, 2006; or Embraer Service Bulletin 145LEG-30-0018, Revision 01, dated September 25, 2006; as applicable; and additionally, paragraph (f)(5)(ii) of this AD has been accomplished.

(ii) Valves with P/N C146009-4 have been previously installed according to the detailed instructions and procedures described in Embraer Service Bulletin 145-30-0044, Revision 01, dated June 26, 2006, Revision 02, dated September 25, 2006, Revision 03, dated December 12, 2006, or Revision 04, dated May 14, 2008; or Embraer Service Bulletin 145LEG-30-0018, Revision 02, dated December 12, 2006, or Revision 03, dated May 14, 2008; as applicable.

(7) PART VII—Within 1,000 flight hours or 10 months after the effective date of this AD, whichever occurs first, install engine anti-ice system valves bearing P/N C146009-4 in the LH and RH engine positions, replacing P/N C146009-3, according to the detailed instructions and procedures described in Embraer Service Bulletin 145-30-0044, Revision 01, dated June 26, 2006, Revision 02, dated September 25, 2006, Revision 03, dated December 12, 2006, or Revision 04, dated May 14, 2008; or Embraer Service Bulletin 145LEG-30-0018, Revision 02, dated December 12, 2006, or Revision 03, dated May 14, 2008; as applicable.

(8) PART VIII—Within 1,000 flight hours or 10 months after the effective date of this AD, whichever occurs first, install engine anti-ice system valves bearing P/N C146009-4 in the LH and RH engine positions, replacing P/N C146009-2, according to the detailed instructions and procedures described in Embraer Service Bulletin 145-30-0044, Revision 01, dated June 26, 2006; Revision 02, dated September 25, 2006, Revision 03, dated December 12, 2006, or Revision 04, dated May 14, 2008; or Embraer Service Bulletin 145LEG-30-0018, Revision 02, dated December 12, 2006, or Revision 03, dated May 14, 2008; as applicable.

(9) PART IX—The installation of engine anti-ice system valves bearing P/N C146009-4 according to the detailed instructions and procedures described in Embraer Service Bulletin 145-30-0044, Revision 01, dated June 26, 2006, Revision 02, dated September 25, 2006, Revision 03, dated December 12, 2006; or Revision 04, dated May 14, 2008; or Embraer Service Bulletin 145LEG-30-0018, Revision 02, dated December 12, 2006, or Revision 03, dated May 14, 2008; as applicable; constitutes terminating action for this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: For the purposes of this AD, a special detailed inspection is: “An intensive examination of a specific item, installation, or assembly to detect damage, failure, or irregularity. The examination is likely to make extensive use of specialized inspection techniques and/or equipment. Intricate cleaning and substantial access or disassembly procedure may be required.”

FAA AD Differences

Note 4: This AD differs from the MCAI and/or service information as follows (we have coordinated these differences with Agência Nacional de Aviação Civil (ANAC)):

(1) “Part V” of the MCAI specifies a compliance time of within “1,500 flight hours or 9 months.” However, paragraph (f)(5) of this AD requires compliance “within 500 flight hours or 6 months” for the corresponding action.

(2) “Part VII” of the MCAI specifies a compliance time of “within 2,500 flight hours or 12 months.” However, paragraph (f)(7) of this AD requires compliance “within 1,000 flight hours or 10 months” for the corresponding action.

(3) “Part VIII” of the MCAI specifies a compliance time of “within 6,000 flight hours or 30 months.” However, paragraph (f)(8) of this AD requires compliance “within 1,000 flight hours or 10 months” for the corresponding action.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Sanjay Ralhan, Aerospace Engineer, International Branch, ANM-116, Transport Airplane Directorate, FAA, 1601 Lind Avenue, SW., Renton, Washington 98057-3356; telephone (425) 227-1405; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to Brazilian Airworthiness Directive 2006-09-03R1, effective January 4, 2007; and the service bulletins listed in Table 1 of this AD; for related information.

Table 1—Related Service Bulletins
Embraer Service Bulletin— | Revision— | Dated—
145-30-0044 | 01 | June 26, 2006.
145-30-0044 | 02 | September 25, 2006.
145-30-0044 | 03 | December 12, 2006.
145-30-0044 | 04 | May 14, 2008.
145-30-0049 | Original | June 28, 2006.
145-30-0049 | 01 | October 19, 2006.
145LEG-30-0016 | Original | June 28, 2006.
145LEG-30-0016 | 01 | February 5, 2007.
145LEG-30-0018 | 02 | December 12, 2006.
145LEG-30-0018 | 03 | May 14, 2008.

Issued in Renton, Washington, on September 16, 2009.
Ali Baharami,
Manager, Transport Airplane Directorate, Aircraft Certification Service.

[FR Doc. E9-23193 Filed 9-24-09; 8:45 am]

BILLING CODE 4910-13-P